DEPARTMENT OF TRANSPORTATION

Office of the Secretary

[Docket No. OST-2003-15243]

Withdrawal and Termination Actions

AGENCY: Department of Transportation, Office of the Secretary.

ACTION: Notice of withdrawal and termination of rulemaking actions.

SUMMARY: The Department of Transportation (DOT) is announcing its decision to withdraw certain proposed rulemakings, a policy statement, and an interim final rule that it had published in the Federal Register and is also announcing its decision to terminate a number of rulemaking actions previously listed in its semiannual Regulatory Agenda for which no proposed rules have been published. These actions are part of a Secretarial initiative to move forward with decisions on long-pending regulatory proposals, either bringing them to completion or eliminating them from DOT's Regulatory Agenda if no further regulatory action is presently contemplated. They include both significant and nonsignificant rulemaking actions of various modal administrations within DOT and the Office of the Secretary. Most of the withdrawals are published separately in today's Federal Register; for those that are not, we have provided the Federal Register citations for those already published and the expected publication date for those to be published in the near future. We also have identified in this notice those actions that are being terminated and provided the reason for the termination.

FOR FURTHER INFORMATION CONTACT: Jennifer Abdul-Wali, Office of the General Counsel, 400 Seventh Street, SW., Washington, DC 20590; (202) 366-4723; fax: (202) 366-9313; E-mail: Jennifer.Abdul-Wali@ost.dot.gov.

ADDRESSES: You may obtain a copy of this notice from the DOT public docket through the Internet at http://dms.dot.gov, docket number OST-03-15243. If you do not have access to the Internet, you may obtain a copy of the notice by United States mail from the Docket Management System, U.S. Department of Transportation, Room PL401, 400 Seventh Street, SW., Washington, DC 20590. You must identify docket number OST-03-15243 and request a copy of the notice entitled “Notice of Withdrawal, Termination, and Deferral of Rulemaking Actions.” You may also review the public docket in person in the Docket office between 9 a.m. and 5 p.m., Monday through Friday, except Federal holidays. The Docket office is on the plaza level of the Department of Transportation. Additionally, you can also get a copy of this document from the Federal Register Web site at www.gpo.gov.

SUPPLEMENTARY INFORMATION:

Background

At the Department of Transportation, we have been engaged in a comprehensive effort to overhaul and expedite the Department's rulemaking process and to move long-pending rulemaking projects to completion. It is in the public interest for the Department to develop high quality rulemaking documents in a timely manner. Without compromising the numerous substantive and procedural legal requirements that must be addressed, and while stressing the importance of justifying the approach taken with a well-reasoned analysis, we have also emphasized that all rulemakings must be completed in a timely manner.

To achieve these goals, we have taken a number of steps. For example, we have created an effective tracking system for DOT's significant rulemakings to ensure that rules are either completed in a timely manner or that delays are identified and fixed. Through this tracking system, we have been able to prepare a monthly, internet-accessible report for the public providing the current status of these significant rulemakings. This not only provides the public with valuable information concerning our important rulemaking activity, but also provides them with the information necessary to evaluate the Department's progress in meeting its goal of completing rulemakings in a timely manner.

Our senior staff has also conducted a review of the current status of all rulemakings pending within the Department. This review helped to identify and resolve problems that have delayed older rulemakings, and has resulted in a significant increase in our rulemaking productivity.

We also identified a number of rulemaking proceedings on the Department's Regulatory Agenda for which it was clear, as a result of the review, that no further action was presently contemplated. Many of these were proceedings for which no action has been taken in many years. The reasons for inaction varied. We decided to make a concerted effort to “clean up” the Department's Regulatory Agenda by withdrawing or terminating those proceedings for which no further action is intended.

As a result, 53 DOT rulemaking actions, many of them long-pending proceedings, have been or are being withdrawn or terminated. For withdrawals of proposed rules and other actions on which we asked for public comment, we have prepared, or will prepare, separate documents that respond to the public comments that we received and explain why the actions are being withdrawn. Each of those withdrawals is identified in this notice, and we provide information on when the withdrawal was or will be published. Most are being published in today's Federal Register. This notice also identifies those previously anticipated actions that were announced in a DOT semi-annual Regulatory Agenda, but which never resulted in a proposed rule. This notice announces that those actions have been, or will be, terminated, and provides a short explanation for the termination. All of this information is provided in the tables below:

1. The following twelve (12) proposed rulemakings, one (1) policy statement, and one (1) interim final rule (IFR) are withdrawn by separate actions in today's Federal Register. For each one, we have provided the DOT agency, the regulation identification number (RIN), the title, the action being withdrawn, and the Federal Register citation and date for the action being withdrawn.

Agency—RIN | Title | Action | Federal Register cite
OST—2105-AA46 | Policy statement on airline preemption | Interim final rule | 44 FR 9948, 02/15/79.
FAA—2120-AA09 | Objects affecting navigable airspace | Notice of proposed rulemaking | 55 FR 31722, 08/03/90.
FAA—2120-AA50 | Miscellaneous amendments | Notice of proposed rulemaking | 48 FR 45214, 10/03/83.
FAA—2120-AC72 | Improved water survival equipment | Notice of proposed rulemaking | 53 FR 24890, 06/30/88.
FAA—2120-AE41 | Type certificates for some surplus aircraft of the armed forces | Notice of proposed rulemaking | 59 FR 19114, 04/21/94.
FAA—2120-AG16 | Revised precision approach landing systems policy | Policy statement | 54 FR 53231, 12/27/89.
FAA—2120-AH60 | Procedures for reimbursement of airports, on-airport parking lots, and vendors of on-airfield direct services to air carriers for security mandates | Notice of proposed rulemaking | 66 FR 66238, 12/21/01.
FHWA—2125-AE63 | Standards for dedicated short-range communications (DSRC) applications for use by commercial vehicles in intelligent transportation systems projects | Notice of proposed rulemaking | 64 FR 73674, 12/30/99.
FMCSA—2126-AA12 | Parts and accessories necessary for safe operation; sleeper berths on motor coaches | Advance notice of proposed rulemaking | 59 FR 1706, 01/12/94.
FMCSA—2126-AA19 | Parts and accessories necessary for safe operation; television receivers and data display units | Notice of proposed rulemaking | 61 FR 14733, 04/03/96.
FMCSA—2126-AA31 | English language requirement; qualification of drivers | Advance notice of proposed rulemaking | 62 FR 45200, 08/26/97.
FMCSA—2126-AA36 | Out-of-service criteria | Advance notice of proposed rulemaking | 63 FR 38791, 07/20/98.
NHTSA—2127-AA03 | Crashworthiness ratings | Notice of proposed rulemaking | 46 FR 7025, 01/22/81.
NHTSA—2127-AA44 | Flammability of interior materials; school buses | Advance notice of proposed rulemaking | 53 FR 44627, 11/04/88.

2. The following two (2) proposed rules were recently withdrawn through separate actions in the Federal Register. In addition to the information provided under table 1, we have also provided the Federal Register citation and date for the withdrawal.

Agency—RIN | Title | Action | Federal Register cite: (Proposal) | Federal Register cite: (Withdrawal)
FRA—2130-AA60 | Local rail freight assistance to states | Notice of proposed rulemaking | 55 FR 49648, 11/30/92 | 68 FR 16753, 04/07/03.
FTA—2132-AA68 | Buy America requirements; permanent waiver for microcomputers | Advance notice of proposed rulemaking | 64 FR 54855, 10/08/99 | 68 FR 9801, 02/28/03.

3. The following thirty-five (35) rulemaking actions have recently been terminated. For each one, we have provided the DOT agency, the RIN, the title, and the reason for the termination.

Agency—RIN | Title
OST—2105-AA73 | Direct flights.
| Reason: Petition denied.
OST—2105-AC79 | Electronic filing option in DOT proceeding.
| Reason: This action was inadvertently placed in the agenda.
FAA—2120-AF80 | Bird strike.
| Reason: Relative ability to improve safety and need to realize the greatest benefit from our limited resources.
FAA—120-AH33 | Design requirements for pressurization and pneumatic systems installed on transport category airplanes.
| Reason: Relative ability to improve safety and need to realize the greatest benefit from our limited resources.
FAA—2120-AH35 | Reverse thrust and propeller pitch settings below the flight regime.
| Reason: Relative ability to improve safety and need to realize the greatest benefit from our limited resources.
FAA—2120-AH48 | Modification of the dimensions of the Grand Canyon National Park special flight rules area and flight free zones.
| Reason: Environmental issues raised by National Park Service.
FAA—2120-AH71 | Revised checked pitching maneuver for transport airplanes.
| Reason: Relative ability to improve safety and need to realize the greatest benefit from our limited resources.
FAA—2120-AH73 | Revised requirements for gust and continuous turbulence design loads.
| Reason: Relative ability to improve safety and need to realize the greatest benefit from our limited resources.
FAA—2120-AH74 | Harmonization of airworthiness standards flight rules, static lateral-directional stability, and speed increase and recovery characteristics.
| Reason: Relative ability to improve safety and need to realize the greatest benefit from our limited resources.
FAA—2120-AH80 | Airworthiness standards; fire protection.
| Reason: Relative ability to improve safety and need to realize the greatest benefit from our limited resources.
FHWA—2125-AE91 | Debt financing.
| Reason: Impact of reauthorization of the surface transportation program.
FMCSA—2126-AA24 | Electronic filing of surety bonds, trust fund agreements, insurance certificates; cancellations.
| Reason: Optional electronic filing capability makes this rulemaking no longer necessary.
FMCSA—2126-AA39 | Federal motor carrier safety regulations; zero-base revision.
| Reason: Regulatory changes would have been burdensome.
FMCSA—2126-AA50 | Post-accident controlled substances and alcohol test results; reporting requirements for fatality analysis reporting system.
| Reason: Regulatory changes would have been burdensome.
FMCSA—2126-AA63 | Rules of practice for administrative proceedings.
| Reason: Merging into RIN 2126-AA15.
NHTSA—2127-AB79 | Procedures for considering environmental impacts.
| Reason: Other higher priorities.
NHTSA—2127-AG79 | Hybrid III 95th percentile male.
| Reason: Other higher priorities.
NHTSA—2127-AH00 | Political subdivision participation in state highway safety programs and state highway safety agency.
| Reason: Other higher priorities.
NHTSA—2127-AH27 | Metric conversion—phase III.
| Reason: Other higher priorities.
NHTSA—2127-AH56 | Use of universal child seats in aircraft.
| Reason: Other higher priorities.
NHTSA—2127-AH58 | Exemption for inconsequential defect or noncompliance.
| Reason: Other higher priorities.
NHTSA—2127-AH63 | Compliance and enforcement.
| Reason: Other higher priorities.
NHTSA—2127-AH89 | Defect reporting and notification.
| Reason: Other higher priorities.
NHTSA—2127-AH97 | Guidelines for states on enforcement of light transmission.
| Reason: Any action by NHTSA will not lead to a regulation.
NHTSA—2127-AI36 | Seat belt fit.
| Reason: Rulemaking unnecessary because many vehicles have belts long enough to fit almost all users and optional longer belts or seat belt extenders are available for 87.5 percent of the fleet. Requiring manufacturers to provide longer belts or belt extenders may have negative safety consequences.
NHTSA—2127-AI40 | Voluntarily installed seat belt assembly anchorages.
| Reason: Other higher priorities.
NHTSA—2127-AI78 | Exemption for inconsequential defect or noncompliance.
| Reason: Other higher priorities.
FRA—2130-AB27 | Crane safety standards.
| Reason: Under review by the Rail Safety Advisory Committee.
FRA—2130-AB30 | Annual adjustment of monetary threshold for reporting rail equipment accidents/incidents.
| Reason: Related rulemaking issued under 2130-AB57.
FRA—2130-AB35 | Revision to railroad safety enforcement procedures.
| Reason: Limited resources.
FRA—2130-AB36 | Rules of practice.
| Reason: Limited resources.
FRA—2130-AB46 | Minimum standards for temperature in the locomotive cab.
| Reason: Not cost effective.
RSPA—2137-AD57 | Hazardous materials; frangible discs on tank cars.
| Reason: Other higher priorities.
RSPA—2137-AD75 | Hazardous materials; transportation of division 1.5 explosives (blasting agents) and ammonium nitrate mixtures in bulk.
| Reason: Other higher priorities.
BTS—2139-AA01 | Modernizing the passenger origin-destination survey.
| Reason: Will merge with RIN 2105-AC71.

4. The following is a future withdrawal action that will be published in the Federal Register. For this item, we have provided the DOT agency, the RIN, the title, and the projected withdrawal date, the action being withdrawn, and the Federal Register citation and date for the action being withdrawn.

RIN | Title—projected date of withdrawal | Action | Federal Register cite
OST—2105-AC45 | Overbooking of flights: elimination of airport notice signs—07/03 | Notice of proposed rulemaking | 61 FR 27818, 06/03/96.

5. The following is a future termination action. For this item, we have provided the DOT agency, the RIN, the title, the reason for the termination, and a projected termination date.

RIN | Title | Projected termination date
NHTSA—2127-AG16 | Door latch exemption for vehicles equipped with wheelchair lifts and ramps | 06/00/03.
| Reason: Recent changes in technology have eliminated the necessity for these modifications

Issued in Washington, DC, on July 9, 2003.
Norman Y. Mineta,
Secretary of Transportation.

[FR Doc. 03-18593 Filed 7-23-03; 8:45 am]

BILLING CODE 4910-62-P